DEPARTMENT OF STATE

[Public Notice 8185]

Call for Expert Reviewers to the U.S. Government Review of the 2013 Supplement to the 2006 Intergovernmental Panel on Climate Change (IPCC) Guidelines for National Greenhouse Gas Inventories: Wetlands.

Summary: The United States Global Change Research Program, in cooperation with the Department of State, request expert review of the Second Order Draft of the 2013 Supplement to the 2006 Intergovernmental Panel on Climate Change (IPCC) Guidelines for National Greenhouse Gas Inventories: Wetlands.

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation. Among the IPCC's products is a series of guidance documents for the preparation of national greenhouse gas inventories, which provide guidance to periodic submissions by Parties to the U.N. Framework Convention on Climate Change (UNFCCC). These reports are developed in accordance with procedures for preparation and review of IPCC documents, which can be found at the following Web sites:

http://www.ipcc.ch/organization/organization_review.shtml#.UEY0LqSe7x8

http://ipcc.ch/organization/organization_procedures.shtml.

Following an invitation from the UNFCCC to “undertake further methodological work on wetlands, focusing on the rewetting and restoration of peatland, with a view to filling in the gaps in the 2006 IPCC Guidelines for National Greenhouse Gas Inventories” (FCCC/SBSTA/2010/13, paragraph 72), an IPCC Expert Meeting on Scoping Additional Guidance on Wetlands was held, on 30 March-1 April 2011 and its proposal was presented to the 33rd session of the IPCC held in Abu Dhabi, United Arab Emirates, 10-13 May 2011. In response to the outcome of the meeting, the Task Force on National Greenhouse Gas Inventories (TFI) is developing additional national-level inventory methodological guidance on wetlands, including default emission factor values, with the aim to fill gaps in the coverage of wetlands and organic soils in the 2006 IPCC Guidelines.

The 2013 Supplement to the 2006 IPCC Guidelines for National Greenhouse Gas Inventories: Wetlands (the Wetlands Supplement) provides methods for estimating anthropogenic emissions and removals of greenhouse gases from wetlands (lands that are saturated by water for all or part of the year), lands with organic soils, and other drained lands. Specifically, the guidance in the Wetlands Supplement covers inland peatlands and other wetlands on mineral soils; coastal wetlands including mangroves, coastal marshes and sea grass; as well as constructed wetlands for wastewater treatment. It does not include methodologies for flooded lands. It supplements the guidance contained in the 2006 IPCC Guidelines for National Greenhouse Gas Inventories (the 2006 IPCC Guidelines) which provides methodologies for estimating national anthropogenic emissions by sources and removals by sinks of greenhouse gases not controlled by the Montreal Protocol. While the 2006 IPCC Guidelines include a chapter on wetlands, this chapter is incomplete and does not cover all wetlands types. It does not characterize all of the significant activities occurring on these wetlands e.g., rewetting of peatlands. The 2006 IPCC Guidelines only provide guidance on peatlands drained and managed for peat extraction and some guidance for drained organic soils.

As part of the U.S. Government Review of the Second Order Draft of the 2013 Supplement to the 2006 IPCC Guidelines for National Greenhouse Gas Inventories: Wetlands, the U.S. Government is soliciting comments from experts in relevant fields of expertise (The Table of Contents for the TFI contribution can be viewed here: http://www.ipcc-nggip.iges.or.jp/home/docs/1105_WetlandsToC.pdf ).

Beginning on 11 February 2013, experts may register and access the Second Order Draft of the report to contribute to the U.S. Government review at: review.globalchange.gov. To be considered for inclusion in the U.S. Government submission, comments must be received by 22 March 2013. The United States Global Change Research Program will coordinate collection and compilation of U.S. expert comments to develop a consolidated U.S. Government submission, which will be provided to the IPCC by 7 April 2013. Instructions for review and submission of comments are available at: review.globalchange.gov.

Experts may choose to provide comments directly through the IPCC's Expert Review process, which occurs in parallel with the U.S. Government Review. More information on the IPCC's comment process can be found at http://www.ipcc.ch/activities/activities.shtml and http://www.ipcc-nggip.iges.or.jp/forms/wetlandsreview_registration.html. To avoid duplication, comments submitted for consideration as part of the U.S. Government Review should not also be sent to the IPCC Secretariat through the Expert Review process (and vice versa). Comments to the U.S. government review should be submitted using the web-based system at: review.globalchange.gov.

This certification will be published in the Federal Register.

Dated: February 6, 2013.
Trigg Talley,
Director, Office of Global Change, Department of State.

[FR Doc. 2013-03251 Filed 2-11-13; 8:45 am]

BILLING CODE 4710-09-P